DEPARTMENT OF COMMERCE

International Trade Administration

Application(s) for Duty-Free Entry of Scientific Instruments

Pursuant to Section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before November 30, 2009. Address written comments to Statutory Import Programs Staff, Room 3720, U.S. Department of Commerce, Washington, DC 20230. Applications may be examined between 8:30 a.m. and 5 p.m. at the U.S. Department of Commerce in Room 3720.

Docket Number: 09-058. Applicant: Honolulu Police Department—SIS, 801 S. Beretania St., Honolulu, HI 96813. Instrument: Electron Microscope. Manufacturer: FEI Company, Czech Republic. Intended Use: The instrument will be used for forensic analysis of trace evidence samples, primarily for particle analysis of gunshot residue. Justification for Duty-Free Entry: No instruments of same general category are manufactured in the United States. Application accepted by Commissioner of Customs: October 9, 2009.

Docket Number: 09-060. Applicant: University of California at San Francisco, 1855 Folsom St., Suite 304, San Francisco, CA 94103. Instrument: Electron Microscope. Manufacturer: JEOL Ltd., Japan. Intended Use: The instrument will be used to study the ultrastructural characteristics of biological tissue, such as the number, size and shape of cellular connections and gap junctions in the brain. Justification for Duty-Free Entry: No instruments of same general category are manufactured in the United States. Application accepted by Commissioner of Customs: October 19, 2009.

Docket Number: 09-061. Applicant: Argonne National Laboratory, 9700 S. Cass Ave., Lemont, IL 60439. Instrument: Electron Microscope. Manufacturer: JEOL Ltd., Japan. Intended Use: This instrument will be used for the study of nanoscale magnetic and ferroelectric materials. Specifically, it will be used to study the magnetic domain or ferroelectric domain behavior of the such materials. The resolution of the instrument is such that it can correlate domain behavior directly with microstructure. Justification for Duty-Free Entry: No instruments of same general category are manufactured in the United States. Application accepted by Commissioner of Customs: October 19, 2009.

Docket Number: 09-062. Applicant: Department of Homeland Security, Science & Technology Directorate, Office of National Labs, National Bio-defense analysis and Countermeasures Center, 8300 Research Plaza, Fort Detrick, Frederick, MD 21702. Instrument: Electron Microscope. Manufacturer: FEI Company, Czech Republic. Intended Use: The instrument will be used to study biological agents and specimens at the cellular and genomic level. Justification for Duty-Free Entry: No instruments of same general category are manufactured in the United States. Application accepted by Commissioner of Customs: October 21, 2009.

Dated: November 3, 2009.
Christopher Cassel,
Director, IA Subsidies Enforcement Office.

[FR Doc. E9-27070 Filed 11-9-09; 8:45 am]

BILLING CODE 3510-DS-P